DEPARTMENT OF HEALTH AND HUMAN SERVICES

Food and Drug Administration

[Docket No. 2007F-0115]

Durand-Wayland, Inc.; Filing of Food Additive Petition

AGENCY: Food and Drug Administration, HHS.

ACTION: Notice.

SUMMARY: The Food and Drug Administration (FDA) is announcing that Durand-Wayland, Inc., has filed a petition proposing that the food additive regulations be amended to provide for the safe use of a carbon dioxide laser for etching information on food, excluding meat and poultry.

FOR FURTHER INFORMATION CONTACT: Paul C. DeLeo, Center for Food Safety and Applied Nutrition (HFS-265), Food and Drug Administration, 5100 Paint Branch Pkwy., College Park, MD 20740-3835, 301-436-1302.

SUPPLEMENTARY INFORMATION: Under the Federal Food, Drug, and Cosmetic Act (sec. 409(b)(5) (21 U.S.C. 348(b)(5))), notice is given that a food additive petition (FAP 7M4768) has been filed by Durand-Wayland, Inc., c/o Hyman, Phelps & McNamara, P.C., 700 13th St., NW., suite 1200, Washington, DC 20005-5929. The petition proposes to amend the food additive regulations in 21 CFR part 179 to provide for the safe use of a carbon dioxide laser for etching information on food, excluding meat and poultry.

The agency has determined under 21 CFR 25.32(j) that this action is of a type that does not individually or cumulatively have a significant effect on the human environment. Therefore, neither an environmental assessment nor an environmental impact statement is required.

Dated: April 4, 2007.
Laura M. Tarantino,
Director, Office of Food Additive Safety, Center for Food Safety and Applied Nutrition.

[FR Doc. E7-6765 Filed 4-10-07; 8:45 am]

BILLING CODE 4160-01-S